DEPARTMENT OF ENERGY

Federal Energy Regulatory Commission

[Docket No. EL12-71-000]

PJM Interconnection, L.L.C.; Notice of Complaint

Take notice that on June 1, 2012, pursuant to section 206 of the Federal Power Act (FPA), 16 U.S.C. 824(e), PJM Interconnection, L.L.C. (PJM) filed proposed revisions to the Amended and Restated Operating Agreement of PJM Interconnection L.L.C. (Operating Agreement) to base the calculation of marginal transmission line losses on the transmission facilities used to provide transmission service under PJM's Open Access Transmission Tariff (Tariff). PJM states that while there is a consensus among PJM stakeholders (although not unanimity) that the current method of basing marginal losses on all facilities in the PJM network model should be replaced, necessary changes have not been approved by the two-thirds supermajority required for amendments to the Operating Agreement. PJM further states that, upon review of this matter, the PJM Board of Managers determined that a change in the marginal losses calculation method is required and, as permitted by the Operating Agreement, directed PJM staff to ask the Federal Energy Regulatory Commission (Commission) to approve Operating Agreement changes under FPA section 206. PJM states that it has served a copy of its filing on all PJM members and on all state utility regulatory commissions in the PJM Region.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on June 22, 2012.

Dated: June 5, 2012.
Kimberly D. Bose,
Secretary.

[FR Doc. 2012-14053 Filed 6-8-12; 8:45 am]

BILLING CODE 6717-01-P